SECURITIES AND EXCHANGE COMMISSION

[Release No. 34-72791; File No. SR-NYSEArca-2014-63]

Self-Regulatory Organizations; NYSE Arca, Inc.; Notice of Withdrawal of Proposed Rule Change Amending the NYSE Arca Options Fee Schedule Relating to Lead Market Maker Rights Fees

August 7, 2014.

On May 23, 2014, NYSE Arca, Inc. (“NYSE Arca”) filed with the Securities and Exchange Commission (“Commission”) a proposed rule change pursuant to Section 19(b)(1) of the Securities Exchange Act of 1934 ¹ and Rule 19b-4 thereunder ² to amend the NYSE Arca Options Fee Schedule relating to lead market maker rights fees. The proposed rule change was published for comment in the Federal Register on June 10, 2014.³ On July 18, 2014, the Commission suspended and instituted proceedings to determine whether to approve or disapprove the proposed rule change.⁴ The Commission received no comment letters regarding the proposal. On August 5, 2014, NYSE Arca withdrew the proposed rule change (SR-NYSEArca-2014-63).

¹ 15 U.S.C. 78s(b)(1).

² 17 CFR 240.19b-4.

³ See Securities Exchange Act Release No. 72312 (June 4, 2014), 79 FR 33247 (June 10, 2014).

⁴ See Securities Exchange Act Release No. 72642 (July 18, 2014), 79 FR 43106 (July 24, 2014).

For the Commission, by the Division of Trading and Markets, pursuant to delegated authority.⁵
⁵ 17 CFR 200.30-3(a)(12).
Kevin M. O'Neill,
Deputy Secretary.

[FR Doc. 2014-19099 Filed 8-12-14; 8:45 am]

BILLING CODE 8011-01-P